FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 001758F.

Name: Rebel Forwarding, Inc.

Address: 2100 South Alameda Street, Long Beach, CA 90221.

Date Revoked: May 1, 2014.

Reason: Failed to maintain a valid bond.

License No.: 2405F.

Name: Guadalupe L. De Leon dba Espinoza Forwarding.

Address: 40 Meadow Lea Drive, Houston, TX 77022.

Date Revoked: May 1, 2014.

Reason: Failed to maintain a valid bond.

License No.: 14383F.

Name: Technical Consulting Shipping, Inc. dba T.C. Shipping, Inc.

Address: 19407 Park Row, Suite 195, Houston, TX 77084.

Date Revoked: May 5, 2014.

Reason: Failed to maintain a valid bond.

License No.: 016887NF.

Name: Itochu Automobile America Inc.

Address: 33533 W. 12 Mile Road, Suite 300, Farmington Hills, MI 48331.

Date Revoked: May 15, 2014.

Reason: Voluntary surrender of license.

License No.: 018403N.

Name: ITS International Container Lines Inc.

Address: 108 South Franklin Avenue, Suite 8, Valley Stream, NY 11580

Date Revoked: May 13, 2014.

Reason: Voluntary surrender of license.

License No.: 019421F.

Name: Logistics NW LLC.

Address: 4370 NE. Halsey Street, Suite 228, Portland, OR 97213.

Date Revoked: May 9, 2014.

Reason: Failed to maintain a valid bond.

License No.: 021753NF.

Name: BC Worldwide Logistics, Inc.

Address: 12006 Scarlet Oak Trail, Conroe, TX 77385.

Date Revoked: May 5, 2014.

Reason: Failed to maintain valid bonds.

License No.: 022366NF.

Name: High Cube, LLC.

Address: 469 North Central Avenue, Upland, CA 91786.

Date Revoked: May 15, 2014.

Reason: Voluntary surrender of license.

License No.: 022573NF.

Name: International First Service USA, Inc. dba Global Wine Logistics, Inc.

Address: 197 Route 18 South, Suite 3000, East Brunswick, NJ 08816.

Date Revoked: May 3, 2014.

Reason: Failed to maintain valid bonds.

License No.: 022575N.

Name: JDI Shipping LLC.

Address: 42840 Christy Street, Suite 231, Fremont, CA 94538.

Date Revoked: April 30, 2014.

Reason: Failed to maintain a valid bond.

License No.: 022638NF.

Name: Guardian International, Inc.

Address: 3728 Lake Avenue, Fort Wayne, IN 46805.

Date Revoked: May 10, 2014.

Reason: Failed to maintain valid bonds.

License No.: 022840NF.

Name: Yang Kee Logistics USA Inc.

Address: 880 Apollo Street, Suite 101, El Segundo, CA 90245.

Date Revoked: May 1, 2014.

Reason: Voluntary surrender of license.

License No.: 023291F.

Name: BK Logistics Corp.

Address: 19500 S. Rancho Way, Suite 103, Rancho Dominguez, CA 90220.

Date Revoked: May 7, 2014.

Reason: Voluntary surrender of license.

Sandra L. Kusumoto,
Director, Bureau of Certification and Licensing.

[FR Doc. 2014-13215 Filed 6-5-14; 8:45 am]

BILLING CODE 6730-01-P